FEDERAL COMMUNICATIONS COMMISSION

47 CFR Part 73

[DA 03-1935; MM Docket No. 02-56; RM-10391, RM-10581*]

Radio Broadcasting Services; DeRidder, DeQuincy, and Merryville, LA, and Newton, TX

AGENCY: Federal Communications Commission.

ACTION: Final rule.

SUMMARY: In response to a Notice of Proposed Rule Making, 67 FR 16350 (April 5, 2002) this document reallots Channel 221C3 from DeRidder, Louisiana, to DeQuincy, Louisiana and provides DeQuincy with its first local aural transmission service. The coordinates for Channel 221C3 at Dequincy are 30-26-54 North Latitude and 93-26-37 West Longitude. The initial rulemaking request to reallot Channel 221C3 from DeRidder to Merryville, Louisiana, was superseded by a counterproposal to reallot Channel 221C3 from De Ridder to DeQuincy, Louisiana. A portion of that counterproposal, which proposed the allotment of Channel 224A to Newton, Texas, was rejected for failure to provide city-grade coverage of the entire town of Newton.

DATES: Effective August 4, 2003.

FOR FURTHER INFORMATION CONTACT: R. Barthen Gorman, Media Bureau, (202) 418-2180.

SUPPLEMENTARY INFORMATION: This is a synopsis of the Commission's Report and Order, MM Docket No. 02-56, adopted June 18, 2003, and released June 20, 2003. The full text of this Commission decision is available for inspection and copying during normal business hours in the FCC's Reference Information Center at Portals II, CY-A257, 445 12th Street, SW., Washington, DC. This document may also be purchased from the Commission's duplicating contractors, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 reads as follows:

Authority: 47 U.S.C. 154, 303, 334 and 336.

§ 73.202 [Amended]

2. Section 73.202(b), the Table of FM Allotments under Louisiana, is amended by adding DeQuincy, Channel 221C3, and removing Channel 221C3 at DeRidder.

Federal Communications Commission.
John A. Karousos,
Assistant Chief, Audio Division, Media Bureau.

[FR Doc. 03-16959 Filed 7-3-03; 8:45 am]

BILLING CODE 6712-01-P